COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: January 21, 2024.

ADDRESSES: Committee for Purchase From People Who Are Blind or Severely Disabled, 355 E Street SW, Suite 325, Washington DC, 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Grounds Maintenance/Vegetation Control

Mandatory for: National Park Service, Chesapeake and Ohio Canal National Historical Park, Palisades Maintenance District, Potomac, MD

Designated Source of Supply: Portco, Inc., Portsmouth, VA

Contracting Activity: NATIONAL PARK SERVICE, NATIONAL PARK SERVICE

Deletions

The following product(s) and service(s) are proposed for deletion from the Procurement List:

Product(s)

NSN(s)—Product Name(s):

PSIN 01251B—Marker, Postal Tray, BBM—Clearance—Tuesday, Orange

PSIN 01251C—Marker, Postal Tray, BBM—Clearance—Wednesday, Green

PSIN 01251D—Marker, Postal Tray, BBM—Clearance—Thursday, Violet

PSIN 01251E—Marker, Postal Tray, BBM—Clearance—Friday, Yellow

PSIN 01251F—Marker, Postal Tray, BBM—Clearance—Saturday, Pink

PSIN 01251G—Marker, Postal Tray, BBM—Clearance—Sunday, White

PSIN 01251A—Marker, Postal Tray, BBM—Clearance—Monday, Blue

PSIN 01250F—Marker, Postal Tray, BBM—Delivery—Saturday, Pink

PSIN 01250E—Marker, Postal Tray, BBM—Delivery—Friday, Yellow

PSIN 01250D—Marker, Postal Tray, BBM—Delivery—Thursday, Violet

PSIN 01250C—Marker, Postal Tray, BBM—Delivery—Wednesday, Green

PSIN 01250B—Marker, Postal Tray, BBM—Delivery—Tuesday, Orange

PSIN 01250A—Marker, Postal Tray, BBM—Delivery—Monday, Blue

PSIN 01249F—Marker, Postal Tray, First Class—Saturday, Pink

PSIN 01249E—Marker, Postal Tray, First Class—Friday, Yellow

PSIN 01249D—Marker, Postal Tray, First Class—Thursday, Violet

PSIN 01249C—Marker, Postal Tray, First Class—Wednesday, Green

PSIN 01249B—Marker, Postal Tray, First Class—Tuesday, Orange

PSIN 01249A—Marker, Postal Tray, First Class—Monday, Blue

Contracting Activity: USPS Vehicles & Delivery and Industrial Equipment CMC, Philadelphia, PA

NSN(s)—Product Name(s):

7045-01-599-2657—Encrypted Compact Disc, Recordable, 25 CDs on Spindle, Silver

7045-01-436-7853—Compact Disc, Recordable, Gold, BX/5

7045-01-470-3596—Compact Disc, Rewritable, EA/1

Designated Source of Supply: North Central Sight Services, Inc., Williamsport, PA

Contracting Activity: DLA TROOP SUPPORT, PHILADELPHIA, PA

NSN(s)—Product Name(s): 8970-00-NIB-0034—Personal Hygiene Kit

Designated Source of Supply: Tarrant County Association for the Blind, Fort Worth, TX

Contracting Activity: GSA/FSS SPECIAL PROGRAMS DIVISION, ARLINGTON, VA

NSN(s)—Product Name(s): 7520-01-619-0302—Portable Desktop Clipboard, 9½″ W x 1½″ D x 13½″ H, Army Green

Designated Source of Supply: LC Industries, Inc., Durham, NC

Contracting Activity: GSA/FAS ADMIN SVCS ACQUISITION BR(2, NEW YORK, NY

Service(s)

Service Type: Janitorial

Designated for: US Army Corps of Engineers, Transatlantic Middle East District, Admiral Byrd; Facility, Winchester, VA; 222 Admiral Byrd Drive; Winchester, VA

Designated Source of Supply: NW Works, Inc., Winchester, VA

Contracting Activity: DEPT OF THE ARMY, W31R ENDIS MIDDLE EAST

Michael R. Jurkowski,
Acting Director, Business Operations.

[FR Doc. 2023-28280 Filed 12-21-23; 8:45 am]

BILLING CODE 6353-01-P